DEPARTMENT OF THE INTERIOR

Bureau of Land Management

43 CFR Part 3160

[WO-310-1310-PB-24-1A]

RIN 1004-AC54

Oil and Gas Leasing: Onshore Oil and Gas Operations

AGENCY: Bureau of Land Management, Interior.

ACTION: Final rule; confirmation of effective date.

SUMMARY: The Bureau of Land Management (BLM) is confirming the effective date for a portion of the final rule concerning joint and several liability for drainage protection published January 10, 2001.

DATES: The removal of 43 CFR 3162.2(a) and the addition of 43 CFR 3162.2-7 published January 10, 2001 (66 FR 1883) and delayed February 8, 2001 (66 FR 9527), April 10, 2001 (66 FR 18569), and August 7, 2001 (66 FR 41149), until November 6, 2001, is confirmed as effective November 6, 2001.

FOR FURTHER INFORMATION CONTACT: Donnie Shaw, Fluid Minerals Group, Bureau of Land Management, Mail Stop 401LS, 1849 “C” Street, NW, Washington, DC 20240; telephone (202) 452-0382 (Commercial or FTS). Persons who use a telecommunications device for the deaf (TDD) may call the Federal Information Relay Service (FIRS) at 1-800-877-8330, 24 hours a day, seven days a week, except holidays, for assistance in reaching Mr. Shaw.

SUPPLEMENTARY INFORMATION:

On January 10, 2001, BLM published a final rule in the Federal Register (66 FR 1883) which, among other things, removed 43 CFR 3162.2(a) and added 43 CFR 3162.2-7. The effective date of those provisions of the rule was delayed in Federal Register documents published on February 8, 2001 (66 FR 9527), April 10, 2001 (66 FR 18569), and August 7, 2001 (66 FR 41149). The August notice delayed the effective date until November 6, 2001. We are not taking action at this time to provide for an additional delay of the effective date of the rule. The provision which takes effect on November 6, 2001 reads as follows:

§ 3162.2-7 Who is liable for drainage if more than one person holds undivided interests in the record title or operating rights for the same lease?

(a) If more than one person holds record title interests in a portion of a lease that is subject to drainage, each person is jointly and severally liable for taking any action we may require under this part to protect the lease from drainage, including paying compensatory royalty accruing during the period and for the area in which it holds its record title interest.

(b) Operating rights owners are jointly and severally liable with each other and with all record title holders for drainage affecting the area and horizons in which they hold operating rights during the period they hold operating rights.

Because of the interest in this issue, the Department of the Interior may give further consideration to alternative approaches on the extent of each party's liability in leases with multiple owners for protection from drainage of Federal and Indian oil and gas resources. The Department may do so either separately or in connection with broader revisions of its oil and gas regulations.

Dated: November 1, 2001.
Carson W. Culp, Jr.,
Assistant Director, Minerals, Realty, and Resource Protection.

[FR Doc. 01-28109 Filed 11-8-01; 8:45 am]

BILLING CODE 4310-84-P